DEPARTMENT OF TRANSPORTATION

Federal Railroad Administration

[Docket Number FRA-2007-28097]

Petition for Waiver of Compliance

Under part 211 of Title 49 of the Code of Federal Regulations (CFR), this provides the public notice that on January 16, 2018, the Boone & Scenic Valley Railroad (BSV) petitioned the Federal Railroad Administration (FRA) for a renewal of a waiver of compliance from certain provisions of the Federal railroad safety regulations contained at 49 CFR part 223, Safety glazing standards—Locomotives, passenger cars and cabooses. FRA assigned the petition docket number FRA-2007-28097.

BSV is an 11-mile-long tourist railroad that is owned and operated by the Iowa Railroad Historical Society. BSV operates steam locomotive Number JS8419, a 2-8-2 “Mikado” type locomotive which was built in October 1988 at the Datong Locomotive Works in Shanxi, China. This locomotive was purchased new by BSV in 1989, and delivered with automotive-type safety glazing. It is typically operated on Saturdays from Memorial Day weekend until the end of October. BSV is specifically requesting a waiver renewal with respect to 49 CFR 223.11—Requirements for existing locomotives.

A copy of the petition, as well as any written communications concerning the petition, is available for review online at www.regulations.gov and in person at the U.S. Department of Transportation's (DOT) Docket Operations Facility, 1200 New Jersey Avenue SE, W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested parties desire an opportunity for oral comment and a public hearing, they should notify FRA, in writing, before the end of the comment period and specify the basis for their request.

All communications concerning these proceedings should identify the appropriate docket number and may be submitted by any of the following methods:

• Website: http://www.regulations.gov. Follow the online instructions for submitting comments.

• Fax: 202-493-2251.

• Mail: Docket Operations Facility, U.S. Department of Transportation, 1200 New Jersey Avenue SE, W12-140, Washington, DC 20590.

• Hand Delivery: 1200 New Jersey Avenue SE, Room W12-140, Washington, DC 20590, between 9 a.m. and 5 p.m., Monday through Friday, except Federal Holidays.

Communications received by April 9, 2018 will be considered by FRA before final action is taken. Comments received after that date will be considered if practicable.

Anyone can search the electronic form of any written communications and comments received into any of our dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacyNotice for the privacy notice of regulations.gov.

Robert C. Lauby,
Associate Administrator for Railroad Safety, Chief Safety Officer.

[FR Doc. 2018-03444 Filed 2-20-18; 8:45 am]

BILLING CODE 4910-06-P